FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 4, 2010.

A. Federal Reserve Bank of Richmond (A. Linwood Gill, III, Vice President) 701 East Byrd Street, Richmond, Virginia 23261-4528:

1. Robert E. Dye, Jr., Lane W. Dye, Alexander C. Dye, Amy S. Dye, Brenda W. Dye, Devon A. Young, Cassi A.Young, and Taylor W. Young, all of Easley, South Carolina; with Gary G. Wells, Helen T. Wells, and the Joe A.Young Trust, of Greenville, South Carolina, and other family members; as a group acting in concert to retain shares of Peoples Bancorporation, Inc., Easley, South Carolina. and thereby retain voting shares of Bank of Anderson, National Association, Anderson, South Carolina, Seneca National Bank, Seneca, South Carolina, and The Peoples National Bank, Easley, South Carolina.

B. Federal Reserve Bank of Kansas City (Todd Offenbacker, Assistant Vice President) 1 Memorial Drive, Kansas City, Missouri 64198-0001:

1. Benjamin F. Zimmerman, Dodge City, Kansas, individually; and Benjamin F. Zimmerman, Candace M. Zimmerman, Dodge City, Kansas, and L. Suzanne Zimmerman, Beaverton, Oregon, as members of a family group acting in concert, to retain control of Fidelity Banc Corporation, parent of The Fidelity State Bank and Trust Company, both of Dodge City, Kansas.

Board of Governors of the Federal Reserve System, April 16, 2010.
Robert deV. Frierson,
Deputy Secretary of the Board.

[FR Doc. 2010-9166 Filed 4-20-10; 8:45 am]

BILLING CODE 6210-01-S